FEDERAL MARITIME COMMISSION

[Docket No. 23-11]

Bal Container Line Co., Limited, Complainant v. SA Terminals (Pier A), LLC; and SSA Containers, Inc., Respondents; Notice of Filing of Amended Complaint and Assignment

Served: December 27, 2023.

Notice is given that an amended complaint has been filed with the Federal Maritime Commission (the “Commission”) by Bal Container Line Co., Limited (the “Complainant”) against SSA Marine Terminal; SSA Terminals (Pier A), LLC; and SSA Containers, Inc. (the “Respondents”). Complainant states that the Commission has jurisdiction over the amended complaint under the Shipping Act of 1984, as amended, 46 U.S.C. 40101 et seq., and jurisdiction over the Respondents as a “marine terminal operator” within the meaning of the Shipping Act at 46 U.S.C. 40102(15).

Complainant is an entity with a principal place of business in Hong Kong and a vessel-operating common carrier.

Complainant identifies Respondent SSA Marine Terminal as a Delaware limited liability company with a principal place of business in Seattle, Washington.

Complainant identifies Respondent SSA Terminals (Pier A), LLC as a Delaware limited liability company with a principal place of business in Seattle, Washington.

Complainant identifies Respondent SSA Containers, Inc. as a Washington corporation with a principal place of business in Seattle, Washington.

Complainant alleges that Respondents violated 46 U.S.C. 41102(c) and 46 CFR part 545 regarding a failure to establish, observe, and enforce just and reasonable regulations and practices relating to or connected with receiving, handling, storing, or delivering property. Complainant alleges these violations arose from an assessment of a flat rate congestion surcharge without stating the purpose of the surcharge, the triggering event, the ending date or an event that would end the surcharge, how the surcharge would help alleviate congestion, or any other relevant required information; a continued assessment of congestion surcharges while containers were placed in inaccessible terminal areas or the ability to pick up the containers was constrained due to circumstances outside the Complainant's control; and a seizure of eighteen containers, money owed to Complainant, and demurrage fees collected on Complainant's behalf until payment of the congestion surcharges.

An answer to the amended complaint must be filed with the Commission within 25 days after the date of service.

The full text of the amended complaint can be found in the Commission's electronic Reading Room at https://www2.fmc.gov/readingroom/proceeding/23-11/. This proceeding has been assigned to the Office of Administrative Law Judges. The initial decision of the presiding judge shall be issued by October 21, 2024, and the final decision of the Commission shall be issued by May 5, 2025.

Alanna Beck,
Federal Register Alternate Liaison Officer, Federal Maritime Commission.

[FR Doc. 2023-28865 Filed 1-2-24; 8:45 am]

BILLING CODE 6730-02-P